ENVIRONMENTAL PROTECTION AGENCY

[FRL-9925-01-Region 9]

Casmalia Resources Superfund Site; Notice of Proposed CERCLA Administrative De Minimis Settlement

AGENCY: Environmental Protection Agency (EPA).

ACTION: Notice; request for public comment.

SUMMARY: In accordance with section 122(i) of the Comprehensive Environmental Response, Compensation, and Liability Act, as amended (CERCLA) and section 7003 of the Resource Conservation and Recovery Act (RCRA), EPA is hereby providing notice of a proposed administrative de minimis settlement concerning the Casmalia Resources Superfund Site in Santa Barbara County, California (the Casmalia Resources Site). Section 122(g) of CERCLA provides EPA with the authority to enter into administrative de minimis settlements. This settlement is intended to resolve the liabilities of the 337 settling parties identified below for the Casmalia Resources Site under sections 106 and 107 of CERCLA and section 7003 of RCRA. These parties have also elected to resolve their liability for response costs and potential natural resource damage claims by the United States Fish and Wildlife Service (USFWS) and the National Oceanic and Atmospheric Administration (NOAA). These 337 parties sent 15,558,106 lbs. of waste to the Casmalia Resources Site, which represents 0.0028 (0.28%) of the total Site waste of 5.6 billion pounds. This settlement requires these parties to pay over $1.4 million to EPA.

DATES: EPA will receive written comments relating to the settlement until April 23, 2015. EPA will consider all comments it receives during this period, and may modify or withdraw consent to the settlement if any comments disclose facts or considerations indicating that the settlement is inappropriate, improper, or inadequate.

Public Meeting: In accordance with section 7003(d) of RCRA, 42 U.S.C. 6973(d), commenters may request an opportunity for a public meeting in the affected area. The deadline for requesting a public meeting is April 7, 2015. Requests for a public meeting may be made by contacting Russell Mechem by email at Mechem.russell@epa.gov. If a public meeting is requested, information about the date and time of the meeting will be published in the local newspaper, The Santa Maria Times, and will be sent to persons on the EPA's Casmalia Resources Site mailing list. To be added to the mailing list, please contact: Alejandro Diaz at (415)972-3242 or by email at diaz.alejandro@epa.gov. A copy of the settlement document may be obtained by calling (415) 369-0559 extension 10, and leaving a message with your name, phone number, and mailing address or email address.

ADDRESSES: Written comments should be addressed to Casmalia Case Team, U.S. Environmental Protection Agency Region IX, 75 Hawthorne Street (mail code SFD-7-1), San Francisco, California 94105-3901, or may be sent by email to Mechem.russell@epa.gov.

FOR FURTHER INFORMATION CONTACT: Additional information about the Casmalia Resources Site and about the proposed settlement may be obtained on the EPA-maintained Casmalia Resources Site Web site at: http://www.epa.gov/region09/casmalia or by calling Russell Mechem at (415) 972-3192.

SUPPLEMENTARY INFORMATION:

Settling Parties: Parties that have elected to settle their liability with EPA at this time are as follows:

A D S Gold, Inc.; A J Diani; A&R Brooks & Perkins/AAR Brooks & Perkins; Accurate Container; Corporation; Ace Clearwater; Action Instruments; Active Supply; Addmaster Corp.; Adler Screw Products, Inc.; Alpha Centurion, Inc.; Alpha Therapeutic Corp; ALPS Electric; Al-Sal Oil Inc.; Alumin-Art Plating Co; Amada Mfg.; Amber Chemical; American Crystal Sugar Company; Apperson Business Forms; Arkema Inc., on behalf of its predecessor, Pennwalt Corporation and its subsidiary Turco Products, Inc.; Armo Construction; Babbitt Bearing Company, Inc.; Bacon Industries; Bahia Resort Hotel; Bardex; Bay Area Rapid Transit District; BEI Motion Systems Co; Belden Inc.; Bell Foundry Company; Betts Spring Company; Bewley Allen Cadillac; Bishops School; Bixby Land Company; Blomberg Window Systems; Blommer Chocolate Company; Body Glove; Boyles Snyder Company; Budget Industrial Uniform Supply, Inc.; Butler Manufacturing Company; C&H Sugar Company; Cal Aurum Industries; Cal Nev Pipe Line, LLC.; Calder, Inc.; California Box; California Combining Corporation; California Electro Plating, Inc.; California Fine Wire; California Hotwood, Inc.; California Neon Products; Carpinteria County Water District; Centinela Valley High School District; Central Concrete Supply Company Inc.; Central Diagnostic Laboratories; Ceramic Decorating Company, Inc.; Certain-Teed Corp.; Certified Alloy Products, LLC.; Charles H. Lilly Co.; Chem Pro Laboratory Inc.; Christopher Chevrolet; Chromal Plating Company; Cirexx Corporation; City of Alhambra; City of Beverly Hills; City of Chula Vista; City of Covina; City of El Segundo; City of Fontana; City of Fremont; City of Gardena; City of Irvine; City of Milpitas; City of Montclair; City of Montebello; City of Redding; City of Redlands; City of Redondo Beach; City of Redwood City; City of Salinas; City of San Bernardino; City of Scotts Valley; City of South San Francisco; City of Union City; City of Westminister; City of Whittier; Claremont Colleges; Cleveland Wrecking Company; Cloverleaf Group, Inc.; COEN Company, Inc.; Connector Plating Corp.; Continental Forge; Continental Maritime; Continuous Curve Contact Lenses Inc.; Control Components; Coordinated Equipment Co.; Cordova Truck Dismantlers; Core Laboratories LP; Corona Clipper; County of Monterey; County of Santa Cruz; CR&R, Inc.; Crestline-Lake Arrowhead Water District; Crown Central Petroleum Corp; Cushman Wakefield; D.A. Stuart Oil Co. of America; Daniels Engraving Co., Inc.; Daughters of Charity Health System; Delano Growers Grape Products; Delta Tech Service, Inc.; Del Mar Fairgrounds; Deseret Industries; Developmental Science; Dickies Standard Industrial Towel & Uniform Supply; Dip Braze, Inc.; E L Yeager Construction Co., Inc.; East Bay Municipal Utility District (EBMUD); East Bay Regional Park District; Eaton Corp.; El Chorlito Mexican Restaurant; Electro Test, Inc.; Electrofusion Corporation; Elk Grove Unified School District; Emerald Packaging Inc.; Emerson Electric Company on behalf of ACDC Electronics; Entenmann-Rovin Company; Enthone, Inc.; Ernst Benary of America, Inc.; Etched Circuits, Inc.; Facit, Inc.; Fallbrook Public Utility District; FedEx Freight Corporation; FedEx Office and Print Service; Fiat Products, Inc.; Filbar Furniture Manufacturing; Finish Kare Products, Inc.; Flopetrol-Johnson; Florestone Products; Flowserve Corporation; Foremost Enameling; Fort Howard Corporation/Lily Tulip, Inc.; Foster & Gardner Inc.; Fresh Express Incorporated, Formerly Known As, Freshco, Inc.; Fry Steel Company; G & M Oil Company; G&K Services, Inc.; Gallo Glass; George Masker; Gilmore Liquid Air Company; Global Plating, Inc.; Gold Coast Transit (f/k/a South Coast Area Transit); Golden Era Production; Golden Rain Foundation; Good Samaritan Hospital of Santa Clara Valley; Green's Industrial Painting, Inc.; Helical Products Company, Inc.; Hershey Foods Corporation; Hexcel Corporation; Holmes-Hally Industries; Hues Metal Finishing, Inc.; Hunter Woodworks; Hussmann Corporation; IBM Corporation; Industrial Polychemical Service; Industrial Waste Utilization, Inc.; International Coatings Company, Inc.; Intersil Corporation; Ivy Hill Packaging Corp; J L Manta; J.C. Schumacher Company; JDS Uniphase Corporation; Kearney- KPF; Kenyon McIntyre; Keyes Motors, Inc.; KIK Pool Additives, Inc and KIK SoCal, Incd/b/a KIK Custom Products; Jet Services (Delaware), Inc. f/k/a Jet Services West, Inc. a/k/a Jet Air, Inc. and Chromalloy San Diego Turbine,; LLC, Sequa Corp.; Kleinfelders & Associates; Kraco Enterprises, Inc.; Krupp/Taylor USA; Kuhlman Corporation; L-3 Integrated Optical Systems; La Habra Heights County Water District; Lennox International, Inc.; Levan Specialty Company; Boral Roofing LLC, fka MonierLifetile LLC, and Boral Lifetile Inc. as Successor in interest to Life Tile Corp.; Ligature; Litronix, Inc.; Loma Linda Oil Company; Lone Star Industries; Lopez Canyon Conference Ground; LSI Corporation; M&M Printed Bags, Inc.; Marathon Construction Corporation; Marine Terminals Corporation; Martin Aviation, Inc.; Marvin Engineering Co., Inc.; MCC Flow Seal; McCormick & Company; McWane, Inc.; Media News Group; Medical Analysis Systems, Inc.; Merle Norman Cosmetics; Met-Tek, Inc.; Micro Linear Corporation; Mid-West Fabricating Co.; Miller Dial Corp.; Milton Roy, LLC; Monogram Industries; Muller Construction Supply; Nakamura Berry Farm; National Controls Inc.; Nekoosa Packaging; Niello Porsche Audi; Niklor Chemical Corp, Inc.; North County Transit District; Northern Telecom Electronics; Nova Group, Inc.; Novartis Corporation; Omnitrans; Orcutt Unified School District; Oxnard Union High School District;PACCAR as indemnitor and on behalf of Trico-Kobe; Pacific Corrugated Pipe Co.; Pacific Mutual Financial Corp; Pacific Piston Ring Co., Inc.; Pacific Pump; Pasadena Imaging Medical Group; Pasha Services; Peninsula Labs, Inc.; Pentair, Inc.; Petro-Diamond Terminal Company; Photo Fabricators, Inc.; Pierce Realty; Pomona Unified School District; Pool Water Products; Port of Oakland; Porvene Roll-a-Door; Poway Unified School District; Precision Founders, Inc.; Propulsion Controls Engineering; Quantic Industries; R Burke Corp; Rachelle Laboratories, Inc.; Rain Bird Sprinkler; Ralph Horowitz; Rancho California Water District; Rediger Investment Co; Reliance Steel; Reno Newspapers Inc. dba Reno Gazette; Reynolds Industry Inc.; River Edge Farm; Riverside Publishing Company; Rohrback Cosasco Systems; Ronlo Engineering; Rug Doctor, Inc and Rug Doctor LLC (as successor in interest to Rug Doctor, Inc).; Running Springs Water District; San Diego Refining Co; San Diego Wood Preserving; San Diego Zoological Society; Sander's Service Inc.; Santa Maria Chili, Inc.; Santa Monica-Malibu Unified School District; Scheidt Hayden & Hall; Scott Engineering, Inc.; SDI Industries, Inc.; Seachrome Corporation; Seagate Technology Public Limited Company, on behalf of itself and Aeon Corp., Conner Peripherals, Inc Control Data Corporation, Domain Technology, Inc., Maxtor Corporation and Seagate Substrates, Inc.; Seneca Resources; Senior Operations, LLC; Serra Corp; Service Plating Company, Inc.; Sheg's Garage; Shippers Imperial, Inc.; Signal Hill Petroleum, Inc.; Silicon Detector Corp; Simpson Timber Company; Skyline Ready Mixed Concrete; Smart & Final; Snow Summit Ski Corp; SnugTop; Solid State Devices, Inc.; Sonic Plating Co., Inc.; Southland Sod Farm; Spears Manufacturing Co.; Spears Manufacturing Co.; SPX Corporation; St. Joseph Health System; St. Mary's High School; Stainless Micro-Polish, Inc; Sterling Electric Inc.; Steve's Plating Corporation; Stutzman Plating, Inc.; Sullair, LLC; Sundstrand Corporation; Superior Metals Shapes Inc.; Symbolic Displays, Inc.; T W Cooper; TA Manufacturing Company; Target Stores; Taylor-Dunn; Telfer Tank Lines; Tetra Tech, Inc.; The Earthgrains Company; The Monadnock Company; The Tapmatic Corporation; Thums Long Beach Co.; Tiodize Co Inc.; TMG Partners (f/k/a Martin Group of Companies, Inc); Trans King; Treffers Precision Inc.; Tropitone Furniture, Inc.; Tunnell Roofing Company, Inc.; Turner Industries; Union Engineering Company; United Alloys; University of Redlands; Valero; Valley Crest Companies, LLC.; Valley Metal Treating, Inc.; Valley Presbyterian Hospital; Varner Brothers, Inc.; Ventura Pacific Company; Ventura Port District; Ventura West Marina; Vibra Sonic; Vista Metals Corp; W. A. Benjamin Electric Company; W.R. Weaver Company; Wadco Industries, Inc.; Walker Springs & Stamping; Washington Iron Works; Weber Aircraft; Weldcraft Products; West Sacramento Land Company; Westcoast Aerospace; Western Hyway, Inc.; Whittier Union High School District; Wilson & Hampton Painting Contractors; Young's Iron Works, Inc.; Zieman Manufacturing Company; Zilog Corporation.

Dated: January 30, 2015.
Enrique Manzanilla,
Director, Superfund Division, U.S. EPA Region IX.

[FR Doc. 2015-06447 Filed 3-23-15; 8:45 am]

BILLING CODE 6560-50-P